FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

Cargomar Express, Inc. (NVO & OFF), 6713 NW 84 Avenue, Miami, FL 33166. Officer: Lainder Araujo, President/Treasurer/Secretary, (Qualifying Individual), Application Type: New NVO & OFF License.

Disham Logistics LLC (OFF), 168-01 Rockaway Boulevard, Suite 204, Jamaica, NY 11434. Officers: Sadiah Mohammed, Member, (Qualifying Individual), Hicham Kallamni, Member, Application Type: New OFF License.

Expedia Shippers & Logistics, Inc. dba Morgan Shipping Lines (NVO), 331 West 57th Street, Suite 270, New York, NY 10019. Officer: Carlito Deleon, President/Secretary/Treasurer, (Qualifying Individual), Application Type: Adding Trade Name.

F.H.L. Logistics, Inc. (NVO & OFF), 1354 NW 78th Avenue, Doral, FL 33126. Officers: Laura Leal-Ramos, Vice President/Secretary, (Qualifying Individual), Hernan Martinez, President/Treasurer, Application Type: New NVO & OFF License.

JC Logistics (USA), Inc. (NVO & OFF), 1818 Gilbreth Road, Suite 248, Burlingame, CA 94010. Officers: Jinbo (Patrick) Huang, Vice President, Alix K. Co, Secretary, (Qualifying Individuals), Application Type: QI Change.

Karakorum Services, Inc. (NVO & OFF), 6045 NW 87 Avenue, Miami, FL 33178. Officer: Mayela J. Luzardo, President/Director/Secretary, (Qualifying Individual), Application Type: New NVO & OFF License.

Nilson International LLC (NVO & OFF), 2017 Pittsburgh Avenue, Building C, Charleston, SC 29405. Officers: Gernot M. Brinkmann, Vice President/Secretary Treasurer, (Qualifying Individual), David Nilson, President, Application Type: New NVO & OFF License.

Pavao Sosic dba C.O. Logistic (OFF), 3711 Country Club Drive, #6, Long Beach, CA 90807. Officer: Pavao Sosic, Sole Proprietor, Application Type: New OFF License.

Ruky International Shipping Line LLC (OFF), 149 Isabelle Street, Metuchen, NJ 08840. Officer: Amarasena A. Rupasinghe, President, (Qualifying Individual), Application Type: New OFF License.

Tommie LaMar Productions LLC dba Herring & Associates (OFF), 6601 Etherington Court, Manassas, VA 20112. Officers: Shawn D. Scott, Manager, Freight Forwarding, (Qualifying Individual), Tomette L. Herring, President, Application Type: New OFF License.

Dated: September 10, 2010.
Karen V. Gregory,
Secretary.

[FR Doc. 2010-22997 Filed 9-14-10; 8:45 am]

BILLING CODE 6730-01-P